INTERNATIONAL TRADE COMMISSION

[Investigation Nos. 701-TA-437 and 731-TA-1060 and 1061 (Review)

Carbazole Violet Pigment 23 From China and India; Determinations

On the basis of the record ¹ developed in the subject five-year reviews, the United States International Trade Commission (Commission) determines, pursuant to section 751(c) of the Tariff Act of 1930 (19 U.S.C. 1675(c)), that revocation of the countervailing duty order on carbazole violet pigment 23 from India would be likely to lead to continuation or recurrence of material injury to an industry in the United States within a reasonably foreseeable time and that revocation of the antidumping duty orders on carbazole violet pigment 23 from China and India would be likely to lead to continuation or recurrence of material injury to an industry in the United States within a reasonably foreseeable time.

¹ The record is defined in sec. 207.2(f) of the Commission's Rules of Practice and Procedure (19 CFR 207.2(f)).

Background

The Commission instituted this review on November 2, 2009 (74 FR 56663) and determined on February 5, 2010 that it would conduct expedited reviews (75 FR 14468, March 25,2010).

The Commission transmitted its determinations in these reviews to the Secretary of Commerce on May 10, 2010. The views of the Commission are contained in USITC Publication 4151 (April 2010), entitled Carbazole Violet Pigment 23 from China and India: Investigation Nos. 701-TA-437 and 731-TA 1060 and 1061 (Review).

By order of the Commission.
Issued: May 11, 2010.
Marilyn R. Abbott,
Secretary to the Commission.

[FR Doc. 2010-11780 Filed 5-17-10; 8:45 am]

BILLING CODE 7020-02-P